DEPARTMENT OF THE INTERIOR

National Park Service

National Register of Historic Places; Notification of Pending Nominations

Nominations for the following properties being considered for listing in the National Register were received by the National Park Service before August 18, 2001. Pursuant to section 60.13 of 36 CFR part 60 written comments concerning the significance of these properties under the National Register criteria for evaluation may be forwarded to the National Register, National Park Service, 1849 C St. NW, NC400, Washington, DC 20240. Written comments should be submitted by October 17, 2001.

Carol D. Shull,
Keeper of the National Register of Historic Places.

ALASKA

Southeast Fairbanks Borough-Census Area

Chicken Historic District, Mi. 66.5 Taylor Hwy., Eagle, 01001053

COLORADO

Denver County

Leeman Auto Company Building, 550 Broadway, Denver, 01001054

Kiowa County

Sand Creek Massacre Site, Near jct. of Cty Rd. 54 and Cty Rd. W, Eads, 01001055

FLORIDA

Duval County

Mandarin Store and Post Office, 12471 Mandarin Rd., Jacksonville, 01001056

Pasco County

Zephyrhills Downtown Historic District, Roughly bounded by South Ave., 9th Ave., 7th St. and 11th St., Zephyrhills, 01001058

Pinellas County

Kress, S.H., and Company Building, 475 Central Ave., St. Petersburg, 01001057

IOWA

Polk County

Syndicate Block, 501 E. Locust, Des Moines, 01001059

MASSACHUSETTS

Dukes County

Gay Head—Aquinnah Town Center Historic District (Boundary Increase), South Rd., Totem Pole Way and Jeffers Way, Aquinnah, 01001060

Middlesex County

Pleasand Street Historic District, 187-235 Pleasant St., Marlborough, 01001061

OHIO

Lawrence County

Burlington 37 Cemetery, (Underground Railroad in Ohio MPS) Center St., Burlington, 01001064

Preble County

Bunker Hill House, 7919 OH 177, Fairhaven, 01001062

Seneca County

Fostoria Downtown Historic District, Roughly bounded by North St., South St. and the alleys E and W of Main St. Fostoria, 01001065

Summit County

Glendale Cemetery, 150 Glendale Ave., Akron, 01001063

OREGON

Linn County

Moore, John and Mary, House, 320 Kirk Ave., Brownsville, 01001066

Marion County

Salem Downtown State Street—Commerical Street Historic District, Roughly bounded by Ferry, High, Chemeketa, and Fronts Sts., Salem, 01001067

Multnomah County

Costello, James C. and Mary A., House, 2043 NE Tillamook, Portland, 01001068

PUERTO RICO

San Juan Municipality

Edificio Aboy, 603 Aboy St., San Juan, 01001069

[FR Doc. 01-24634 Filed 10-1-01; 8:45 am]

BILLING CODE 4310-70-P